DEPARTMENT OF TRANSPORTATION

Federal Aviation Administration

14 CFR Part 39

[Docket No. FAA-2013-0547; Directorate Identifier 2013-NM-028-AD; Amendment 39-17758; AD 2014-03-21]

RIN 2120-AA64

Airworthiness Directives; the Boeing Company Airplanes

AGENCY: Federal Aviation Administration (FAA), DOT.

ACTION: Final rule.

SUMMARY: We are adopting a new airworthiness directive (AD) for certain The Boeing Company Model 727-200 and 727-200F series airplanes. This AD is intended to complete certain mandated programs intended to support the airplane reaching its limit of validity (LOV) of the engineering data that support the established structural maintenance program. This AD requires a one-time inspection for cracking of the pressure floor of both main wheel wells, and related investigative and corrective actions if necessary; and modifying the pressure floor of both main wheel wells. We are issuing this AD to prevent fatigue cracking in the pressure floor of the main wheel wells, which could lead to rapid loss of cabin pressurization.

DATES: This AD is effective March 31, 2014.

The Director of the Federal Register approved the incorporation by reference of a certain publication listed in this AD as of December 13, 1991 (56 FR 57233, November 8, 1991).

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2013-0547; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Chandraduth Ramdoss, Aerospace Engineer, Airframe Branch, ANM-120L, FAA, Los Angeles Aircraft Certification Office (ACO), 3960 Paramount Blvd., Suite 100, Lakewood, CA 90712-4137, phone: 562-627-5239; fax: 562-627-5210; email: chandraduth.ramdoss@faa.gov.

SUPPLEMENTARY INFORMATION:

Discussion

We issued a notice of proposed rulemaking (NPRM) to amend 14 CFR part 39 by adding an AD that would apply to certain The Boeing Company Model 727-200 and 727-200F series airplanes. The NPRM published in the Federal Register on July 18, 2013 (78 FR 42895). This AD is intended to complete certain mandated programs intended to support the airplane reaching its limit of validity (LOV) of the engineering data that support the established structural maintenance program. The NPRM proposed to require a one-time inspection for cracking of the pressure floor of both main wheel wells, and related investigative and corrective actions if necessary; and modifying the pressure floor of both main wheel wells. We are issuing this AD to prevent fatigue cracking in the pressure floor of the main wheel wells, which could lead to rapid loss of cabin pressurization.

Comments

We gave the public the opportunity to participate in developing this AD. The following presents the comments received on the proposal (78 FR 42895, July 18, 2013) and the FAA's response to each comment.

Request To Clarify the Preamble of the NPRM (78 FR 42895, July 18, 2013)

Boeing requested that we clarify the “Discussion” section of the preamble of the NPRM (78 FR 42895, July 18, 2013). Boeing stated that the “Discussion” section in the preamble of the NPRM did not specifically explain that the NPRM is being issued to complete actions in service information that was not previously AD-mandated, but was recommended as a part of the Model 727 airplane service action requirement (SAR) program. Boeing stated that in two places in the “Discussion” section in the NPRM, reference is made to “certain programs” and “previously established program” when it should more specifically refer to the Model 727 airplane SAR program.

Additionally, Boeing commented that the focus of the “Explanation of Compliance Time” section in the preamble of the NPRM (78 FR 42895, July 18, 2013) should be on the SAR program instead of on widespread fatigue damage (WFD). However, Boeing stated that the restrictions concerning extensions to compliance times for AD-mandated service bulletins related to WFD in the “Explanation of Compliance Time” section in the preamble of the NPRM might be similar to the SAR program.

We concur that the NPRM (78 FR 42895, July 18, 2013) references to “certain programs” and “previously established program” are intended to refer to the Model 727 airplane SAR program. However, the “Discussion” section of the NPRM is not restated in this final rule. Therefore, no change to this final rule is necessary in this regard.

We find that clarification is necessary concerning how the SAR program and WFD affect this final rule. This final rule is being issued to complete actions in one of the service bulletins recommended as a part of the Model 727 airplane SAR program, but not previously AD-mandated. This is necessary because the LOV for Model 727 series airplanes is dependent on timely completion of the previously established SAR program actions. Since some of those actions, including those mandated by this final rule, were not previously mandated, it is necessary to mandate them now as a part of defining the service actions that support the LOV and preclude WFD. This is the link between WFD and the SAR program actions that were not previously mandated by an AD. Since the requirements of this final rule support the LOV and preclude WFD, the statement that we will not grant any extensions of the compliance time to complete any AD-mandated service information related to WFD without extensive new data applies to this final rule. We have not changed this final rule in this regard.

Conclusion

We reviewed the relevant data, considered the comment received, and determined that air safety and the public interest require adopting this AD as proposed except for minor editorial changes. We have determined that these minor changes:

• Are consistent with the intent that was proposed in the NPRM (78 FR 42895, July 18, 2013) for correcting the unsafe condition; and

• Do not add any additional burden upon the public than was already proposed in the NPRM (78 FR 42895, July 18, 2013).

Costs of Compliance

We estimate that this AD affects 94 airplanes of U.S. registry.

We estimate the following costs to comply with this AD:

Estimated Costs
Action | Labor cost | Parts cost | Cost per product | Cost on U.S. operators
Inspection and Modification | 222 work-hours × $85 per hour = $18,870 | $2,906 | $21,776 | $2,046,944

We have received no definitive data that would enable us to provide cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-03-21 The Boeing Company: Amendment 39-17758; Docket No. FAA-2013-0547; Directorate Identifier 2013-NM-028-AD.

(a) Effective Date

This AD is effective March 31, 2014.

(b) Affected ADs

This AD affects AD 91-22-08, Amendment 39-8068 (56 FR 57233, November 8, 1991).

(c) Applicability

This AD applies to The Boeing Company Model 727-200 and 727-200F series airplanes, certificated in any category, line numbers 1103 and subsequent.

(d) Subject

Air Transport Association (ATA) of America Code 53, Fuselage.

(e) Unsafe Condition

This AD is intended to complete certain mandated programs intended to support the airplane reaching its limit of validity (LOV) of the engineering data that support the established structural maintenance program. We are issuing this AD to prevent fatigue cracking in the pressure floor of the main wheel wells, which could lead to rapid loss of cabin pressurization.

(f) Compliance

Comply with this AD within the compliance times specified, unless already done.

(g) Inspection

Before the accumulation of 60,000 total flight cycles, or within 24 months after the effective date of this AD, whichever occurs later: Do a one-time detailed inspection for cracking of the pressure floor of both main wheel wells, in accordance with the Accomplishment Instructions of Boeing Service Bulletin 727-53A0124, Revision 3, dated November 30, 1989, except as specified in paragraph (h) of this AD. If any indication of distress is found (such as cracking or flaked paint): Before further flight, do an eddy current inspection or penetrant inspection for cracking of the pressure floor of both main wheel wells, and do all applicable related investigative and corrective actions, by accomplishing all the actions specified in the Accomplishment Instructions of Boeing Service Bulletin 727-53A0124, Revision 3, dated November 30, 1989. Do all applicable related investigative and corrective actions before further flight.

(h) Exception to Service Information

Where Boeing Service Bulletin 727-53A0124, Revision 3, dated November 30, 1989, specifies a close visual inspection, this AD requires a detailed inspection, which is an intensive examination of a specific item, installation, or assembly to detect damage, failure, or irregularity. Available lighting is normally supplemented with a direct source of good lighting at an intensity deemed appropriate. Inspection aids such as mirror, magnifying lenses, etc., may be necessary. Surface cleaning and elaborate procedures may be required.

(i) Preventive Modification

Before further flight after accomplishing the actions required by paragraph (g) of this AD: Do a preventive modification of the pressure floor of both main wheel wells, in accordance with Part III of the Accomplishment Instructions of Boeing Service Bulletin 727-53A0124, Revision 3, dated November 30, 1989.

(j) Credit for Previous Actions

This paragraph provides credit for actions required by paragraph (i) of this AD, if those actions were performed before the effective date of this AD using Boeing Alert Service Bulletin 727-53A0124, Revision 2, dated May 2, 1975, which is not incorporated by reference in this AD.

(k) Termination of Certain Actions in AD 91-22-08, Amendment 39-8068 (56 FR 57233, November 8, 1991)

Accomplishment of the preventative modification required by paragraph (i) of this AD terminates the repetitive inspection requirement required by AD 91-22-08, Amendment 39-8068 (56 FR 57233, November 8, 1991), for airplanes with line number 1103 and subsequent.

(l) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m)(1) of this AD.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Los Angeles ACO, to make those findings. For a repair method to be approved, the repair must meet the certification basis of the airplane, and the approval must specifically refer to this AD.

(m) Related Information

(1) For more information about this AD, contact Chandraduth Ramdoss, Aerospace Engineer, Airframe Branch, ANM-120L, FAA, Los Angeles Aircraft Certification Office (ACO), 3960 Paramount Blvd., Suite 100, Lakewood, CA 90712-4137, phone: 562-627-5239; fax: 562-627-5210; email: Chandraduth.Ramdoss@faa.gov.

(2) Service information identified in this AD that is not incorporated by reference may be obtained at the addresses specified in paragraphs (n)(4) and (n)(5) of this AD.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on December 13, 1991 (56 FR 57233, November 8, 1991).

(i) Boeing Service Bulletin 727-53A0124, Revision 3, dated November 30, 1989.

(ii) Reserved.

(4) For Boeing service information identified in this AD, contact Boeing Commercial Airplanes, Attention: Data & Services Management, P.O. Box 3707, MC 2H-65, Seattle, WA 98124-2207; telephone 206-544-5000, extension 1; fax 206-766-5680; Internet https://www.myboeingfleet.com.

(5) You may view this service information at FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on January 18, 2014.
Jeffrey E. Duven,
Manager, Transport Airplane Directorate, Aircraft Certification Service.

[FR Doc. 2014-03241 Filed 2-21-14; 8:45 am]

BILLING CODE 4910-13-P